DEPARTMENT OF ENERGY

Federal Energy Regulatory Commission

Notice of Effective Date of Withdrawal of Applications

May 5, 2004.

Pacific Gas and Electric Company, et al. (Projects Nos. 77-116, 96-031, 137-031, 175-018, 178-015, 233-081, 223-082, 606-020, 619-095, 803-055, 1061-056, 1121-058, 1333-037, 1354-005, 1354-029, 1403-042, 1962-039, 1988-030, 2105-087, 2106-039, 2107-010, 2107-012, 2130-030, 2155-022, 2310-120, 2467-016, 2661-012, 2661-016, 2687-014, 2687-022, 2735-071)

Pacific Gas and Electric Company ETrans LLC (Project Nos. 2118-006, 2281-005, 2479-003, 2678-001, 2781-004, 2784-001, 4851-004, 5536-001, 5828-003, 7009-004, and 10821-002)

On November 30, 2001, Pacific Gas and Electric Company (PG&E), and 27 limited liability companies (collectively, applicants) filed applications for approval of transfers of PG&E's 26 hydropower licenses and 11 transmission-line only licenses for the above-numbered projects to the limited liability companies. The applications included related requests for substitution of applicant and waiver of application amendment regulations in five pending PG&E relicensing proceedings and for a variety of conveyances of rights in project property for power generation, transmission, and distribution functions. Applicants filed the applications in connection with PG&E's Plan of Reorganization in the Bankruptcy Court for the Northern District of California.

The Commission published notice of the applications and over 50 parties filed motions to intervene, several in opposition, including the State of California, which had also contested the PG&E Reorganization Plan in the Bankruptcy Court. On June 24, 2003, applicants filed a “Motion to Hold Proceedings in Abeyance” to provide time for implementing a proposed Settlement Agreement in the bankruptcy case. Pursuant to the Settlement Agreement, PG&E filed a new reorganization plan with the Bankruptcy Court, which the court confirmed in December 2003.

On April 13, 2004, under the requirements of the Settlement Agreement, the applicants filed a notice of withdrawal of their applications.¹ No motions in opposition to the notice of withdrawal have been filed and the Commission took no action to disallow the withdrawal. Accordingly, pursuant to Rule 216 of the Commission's Rules of Practice and Procedure, 18 CFR 385.216 (2003), the withdrawal of the applications became effective April 28, 2004.

¹ PG&E and the City of Santa Clara, California, are co-licensees for Project No. 619. Under a settlement agreement filed June 28, 2002, the City agreed to be considered a co-applicant for the license transfer in Project No. 619-095, subject to certain conditions. On April 28, 2004, PG&E and the City filed a stipulation in which the City stated that it does not oppose the notice of withdrawal.

Magalie R. Salas,
Secretary.

[FR Doc. E4-1113 Filed 5-12-04; 8:45 am]

BILLING CODE 6717-01-P